DEPARTMENT OF ENERGY

Federal Energy Regulatory Commission

[Docket No. CP00-168-000]

Koch Gateway Pipeline Company; Notice of Request Under Blanket Authorization

April 11, 2000.

Take notice that on April 3, 2000, Koch Gateway Pipeline Company (Koch), P.O. Box 1478, Houston, Texas 77251-1478, filed in Docket No. CP00-168-000 a request pursuant to Sections 157.205 and 157.211 of the Commission's Regulations (18 CFR 157.205 and 157.211) under the Natural Gas Act (NGA) for authorization to construct and operate delivery point facilities for service to Tyson Foods, Inc. (Tyson), an industrial end-user, in Hinds County, Mississippi, under Koch's blanket certificate issued in Docket No. CP82-430-000, pursuant to Section 7 of the NGA, all as more fully set forth in the application which is on file with the Commission and open to public inspection. This filing may be viewed on the web at http://www/ferc/fed.us/online/htm (call 202-208-222 for assistance).

Koch requests authorization to construct and operate delivery point facilities to serve Tyson's industrial plant. It is stated that Koch will use the facilities to transport up to 850 dekatherms per day on a firm basis pursuant to the terms of Koch's FTS rate schedule for delivery to Tyson. Koch estimates the cost of the facilities at under $50,000. It is asserted that Koch has sufficient capacity to render the proposed service without disadvantage to its other existing customers and that Koch's tariff does not prohibit the addition of delivery point facilities. It is stated that the proposed service will not have an impact on Koch's annual deliveries or peak day operations even though the proposed service is firm in nature. It is explained that Tyson is currently being served by Reliant Energy-Entex, a local distribution company.

Any questions regarding the application may be directed to Kyle Stephens, Director of Certificates, at Koch Gateway Pipeline Company, P.O. Box 1478, Houston, Texas 77251-1478.

Any person or the Commission's staff may, within 45 days after issuance of the instant notice by the Commission, file pursuant to Rule 214 of the Commission's Procedural Rules (18 CFR 385.214) a motion to intervene or notice of intervention and pursuant to Section 157.205 of the Regulations under the NGA (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-9475 Filed 4-14-00; 8:45 am]

BILLING CODE 6717-01-M